DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending April 27, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0087.

Date Filed: April 26, 2013.

Due Date for Answers, Conforming Applications, or Motion to Modify Scope: May 17, 2013.

Description: Application of 8165343 Canada Inc. d/b/a Air Canada Rouge (“AC rouge”) requesting a foreign air carrier permit and related exemption that would enable it to provide scheduled and charter foreign air transportation of persons, property and mail under the Open Skies Agreement between the U.S. and Canada on the following routing: (i) From points behind Canada via Canada and intermediate points to a point or points in the United States and beyond; and (ii) all-cargo services between the United States and any point or points.

Barbara J. Hairston,
Acting Program Manager, Docket Operations, Federal Register Liaison.

[FR Doc. 2013-13145 Filed 6-3-13; 8:45 am]

BILLING CODE 4910-9X-P